Title 3—

The President

Proclamation 8544 of July 30, 2010

45th Anniversary of Medicare and Medicaid

By the President of the United States of America

A Proclamation

When President Lyndon B. Johnson signed Medicare and Medicaid into law on July 30, 1965, millions of Americans and about half our Nation’s seniors lacked health care coverage, unable to afford basic health care services or weather a medical emergency. The signing of Medicare forged a promise with older Americans—that those who have contributed a lifetime to our national life and economy can enjoy their golden years with peace of mind and the security of reliable medical insurance. Medicaid created an essential partnership between the Federal Government and the States to provide a basic health care safety net for some of the most vulnerable Americans: low-income children, parents, seniors, and people with disabilities. Forty-five years later, we must ensure this inviolable trust between America and its citizens remains stronger than ever.

Medicare and Medicaid support longer, healthier lives and economic security for some of the neediest among us. Since their expansion in 1972, Medicare and Medicaid have covered millions of people with disabilities, protecting individuals who otherwise might not have access to affordable health coverage. Today, Medicare provides over 47 million Americans with dependable medical insurance, and is the largest health care provider in our Nation. State Medicaid programs provide health and long-term care coverage to more than 56 million low-income Americans. With too many communities stricken by the economic crisis, Medicaid provides a critical support for those struggling to raise healthy families or cope with illness or injury. No American should be one illness away from financial ruin, and we must continue to keep Medicare and Medicaid strong for the millions of beneficiaries who rely on these vital safety nets.

Medicare is not simply an entitlement program that starts at age 65—it is earned over a lifetime. The health care reforms in the landmark Affordable Care Act (ACA) renew and strengthen our pledge to America’s seniors and families, ensuring Medicare and Medicaid will be there when they need it. Guaranteed Medicare benefits will not change, and participants will see greater savings, improved quality, and increased accountability in their health care coverage.

My Administration is taking steps to extend the life of the Medicare trust fund and to slow the growth of Medicare costs. The ACA helps accomplish this by addressing overpayments to insurance companies that operate Medicare Advantage plans; aggressively fighting waste, fraud, and abuse; and better coordinating the care of individuals with chronic conditions. The ACA also helps seniors and people with disabilities in Medicare who fall in the Part D coverage gap for prescription drug costs, or the “donut hole,” and Medicare beneficiaries who reach the donut hole this year are receiving a $250 rebate. Additionally, beneficiaries will see 50 percent discounts on brand name drugs in the coverage gap starting next year, and an end of the coverage gap altogether by 2020. To encourage health maintenance, the ACA enables Medicare to provide a free annual physical examination and other effective preventative care services, like certain colorectal cancer screenings and mammograms, with no co-pays or deductibles. Through focus on preventative care, increased efficiencies, and better management, the ACA is modernizing the health care system to make it work better for older Americans.

As President, I will protect the promise of Medicare and Medicaid, and make sure they continue to be strong and solvent for our children and grandchildren. As we celebrate the 45th anniversary of these critical programs, we reflect on a moment when our Nation made an enduring commitment to care for those who have given the most to our society, and those living in poverty. Let us continue protecting Medicare and Medicaid so older Americans can age with dignity, and so all Americans can live longer, healthier, and happier lives.

NOW, THEREFORE, I, BARACK OBAMA, President of the United States of America, by virtue of the authority vested in me by the Constitution and the laws of the United States, do hereby proclaim July 30, 2010, as the 45th Anniversary of Medicare and Medicaid. I call upon all Americans to observe this day with appropriate ceremonies and activities that recognize the vital safety net that Medicare and Medicaid provide for millions of Americans.

IN WITNESS WHEREOF, I have hereunto set my hand this thirtieth day of July, in the year of our Lord two thousand ten, and of the Independence of the United States of America the two hundred and thirty-fifth.

[FR Doc. 2010-19202

Filed 8-2-10; 11:15 am]

Billing code 3195-W0-P